DEPARTMENT OF COMMERCE

National Oceanic and Atmospheric Administration

[I.D. 041801D]

Pacific Fishery Management Council; Public Meeting

AGENCY: National Marine Fisheries Service (NMFS), National Oceanic and Atmospheric Administration (NOAA), Commerce.

ACTION: Notice of public meeting.

SUMMARY: The Pacific Fishery Management Council's (Council) Scientific and Statistical Committee (SSC) will hold a workshop to review market squid stock assessment methods.

DATES: The workshop is scheduled for Monday, May 14, 2001, from 8 a.m to 5 p.m.; Tuesday, May 15, 2001, from 8 a.m. to 5 p.m.; Wednesday, May 16, 2001, from 8 a.m. to 5 p.m.; and Thursday, May 17, 2001, from 8 a.m. until business for the day is completed.

ADDRESSES: The meeting will be held at NMFS Southwest Fisheries Science Center, 8604 La Jolla Shores Drive, La Jolla, CA 92038.

Council address: Pacific Fishery Management Council, 2130 SW Fifth Avenue, Suite 224, Portland, OR 97201.

FOR FURTHER INFORMATION CONTACT: Mr. Dan Waldeck, Pacific Fishery Management Council, (503) 326-6352.

SUPPLEMENTARY INFORMATION: A workshop will be held to review market squid stock assessment methods. The workshop is, in part, to address disapproved provisions in the Council’s Coastal Pelagic Species (CPS) Fishery Management Plan (FMP); specifically, maximum sustainable yield (MSY) for market squid. Since the development of the FMP, research conducted on squid life history along with enhanced fishery data (port sampling and logbooks) have provided significant new information. A principal goal of the stock assessment review (STAR) is to integrate the ongoing squid research into the Council’s CPS FMP. Terms of reference for the STAR Panel address the MSY issue as well as control rules for practical management of the squid fishery.

Draft Agenda

Monday, May 14, 2001

A. Welcome, introductions, and logistics.

B. Review terms of reference and agenda. Assignment of rapporteurs.

C. Presentation of working papers.

Lunch

D. Presentation of working papers-continued.

E. Discussion of recent biological findings as they relate to stock assessment and management (Section 2 of the STAR Panel Report).

F. Requests for additional information and/or data from working paper authors (as necessary).

Tuesday, May 15, 2001

G. Discussion of newly developed fisheries-related data as they relate to stock assessment and management (Section 3 of the STAR Panel Report). Requests for additional information and/or data from working paper authors (as necessary).

H. Discussion of MSY estimation for squid and the SFA requirements (Section 4 ). Requests for additional analysis and/or data from authors (as necessary).

Lunch

I. Discussion of management measures including operationally-practical control rules, long-term monitoring programs, and inseason adjustment mechanisms (Section 5). Requests for additional analysis and/or data from authors (as necessary).

J. Review additional data and analyses, as requested from working paper authors.

Wednesday, May 16, 2001

K. Review additional data and analyses, as requested from working paper authors.

L. Review draft rapporteur’s report on biology and life history findings (Section 2).

M. Review draft rapporteur’s report on fisheries-related data (Section 3).

N. Continue review of additional data and analyses, as requested from working paper authors.

O. Review draft rapporteur’s report on MSY estimation (Section 4).

P. Review draft of rapporteur’s report on control rules and other management measures (Section 5).

Q. Drafting session for full STAR Panel draft report.

Thursday, May 17, 2001

R. Drafting session for full STAR Panel draft report- continued.

S. Discussion of research and data needs (Section 6 of the STAR Panel Report).

T. Review full STAR Panel draft report.

U. Discuss procedures for completion of the final STAR Panel report.

Adjournment

Although non-emergency issues not contained in this notice may arise during the workshop, those issues may not be the subject of formal action during this meetings. Formal action will be restricted to those issues specifically listed in this notice and any issues arising after publication of this notice that require emergency action under section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at (503) 326-6352 at least 5 days prior to the meeting date.

Dated: April 25, 2001.
Richard W. Surdi,
Acting Director, Office of Sustainable Fisheries, National Marine Fisheries Service.

[FR Doc. 01-10660 Filed 4-27-01; 8:45 am]

BILLING CODE 3510-22-S